DEPARTMENT OF AGRICULTURE

Animal and Plant Health Inspection Service

[Docket No. APHIS-2012-0088]

Notice of Establishment of an Animal and Plant Health Inspection Service Stakeholder Registry

AGENCY: Animal and Plant Health Inspection Service, USDA.

ACTION: Notice.

SUMMARY: This notice announces the availability of a new Animal and Plant Health Inspection Service stakeholder registry.

FOR FURTHER INFORMATION CONTACT: Ms. Hallie Zimmers, Advisor for State and Stakeholder Relations, Legislative and Public Affairs, APHIS, room 1147, 1400 Independence Avenue SW., Washington, DC 20250; (202) 799-7029.

SUPPLEMENTARY INFORMATION: The Animal and Plant Health Inspection Service (APHIS) has established an electronic stakeholder registry for individuals and organizations interested in receiving updates regarding APHIS announcements, activities, policies, regulations and services. Subscribers can choose from an array of topics covering all of APHIS' program areas and once registered will receive information via email or text tailored to their specific interests. In addition to choosing topics of interest, subscribers may select how often they want to receive messages.

APHIS' Plant Protection and Quarantine and Veterinary Services programs are already using this subscription service to share information with stakeholders. By expanding the registry to include APHIS' Animal Care, Biotechnology Regulatory Services, International Services, and Wildlife Services programs, we are adopting an agency-wide approach toward increasing transparency and communication with our many and diverse stakeholders.

To join the registry and receive messages, stakeholders must subscribe and provide an email address or telephone number. Stakeholders can update their profiles at any time using this same information.

Persons interested in becoming subscribers or updating their subscriptions may access the expanded registry at: https://public.govdelivery.com/accounts/USDAAPHIS/subscriber/topics?qsp=USDAAPHIS_1. Subscribers can also register or update their profiles by clicking on the red envelope on the APHIS home page at www.aphis.usda.gov. Questions concerning the APHIS stakeholder registry may be directed to the person listed under FOR FURTHER INFORMATION CONTACT.

Done in Washington, DC, this 2nd day of January, 2013.
Kevin Shea,
Acting Administrator, Animal and Plant Health Inspection Service.

[FR Doc. 2013-00193 Filed 1-8-13; 8:45 am]

BILLING CODE 3410-34-P